DEPARTMENT OF COMMERCE

National Oceanic and Atmospheric Administration

RIN 0648-XE075

Marine Mammals; File No. 18636

AGENCY: National Marine Fisheries Service (NMFS), National Oceanic and Atmospheric Administration (NOAA), Commerce.

ACTION: Notice; issuance of permit.

SUMMARY: Notice is hereby given that a permit has been issued to Iain Kerr, D.H.L., Ocean Alliance, 32 Horton Street, Gloucester, MA 01930 to conduct research on 15 species of whales, including endangered sperm (Physeter macrocephalus), southern right (Eubalaena australis), blue (Balaenoptera musculus), fin (B. physalus), humpback (Megaptera novaeangliae), and sei (B. borealis) whales.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Amy Sloan, (301) 427-8401.

SUPPLEMENTARY INFORMATION: On August 27, 2015, notice was published in the Federal Register (80 FR 52035) that a request for a permit to conduct research on the species identified above had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Mr. Kerr has been issued a permit to conduct research on cetaceans in U.S. waters and the high seas of the Pacific, Atlantic and Indian Oceans to determine how environmental toxicants affect cetaceans and vary spatially and temporally across species; and to determine the route of exposure. Authorized research includes vessel surveys targeting live cetaceans; tissue collection of dead, stranded cetaceans; cell line development of tissue samples; and the import/export/receipt of biological samples collected in foreign waters/countries. Research activities on live animals include recordings and observations, biological sampling that includes use of an unmanned aircraft system, tracking, and incidental harassment during vessel surveys. The permit is valid through February 28, 2021.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: March 8, 2016.
Julia Harrison,
Chief, Permits and Conservation Division, Office of Protected Resources, National Marine Fisheries Service.

[FR Doc. 2016-05614 Filed 3-11-16; 8:45 am]

BILLING CODE 3510-22-P